DEPARTMENT OF COMMERCE

Foreign-Trade Zones Board

[B-72-2012]

Foreign-Trade Zone 121—Albany, NY; Authorization of Production Activity; Albany Molecular Research, Inc.; Subzone 121A (Pharmaceutical Chemicals Production); Rensselaer, NY

On September 26, 2012, Albany Molecular Research, Inc., submitted a notification of proposed production activity to the Foreign-Trade Zones (FTZ) Board for Subzone 121A, at its facility in Rensselaer, New York.

The notification was processed in accordance with the regulations of the FTZ Board (15 CFR part 400), including notice in the Federal Register inviting public comment (77 FR 63290, 10/16/2012). The FTZ Board has determined that no further review of the activity is warranted at this time. The production activity described in the notification is authorized, subject to the FTZ Act and the Board's regulations, including Section 400.14.

Dated: January 25, 2013.
Andrew McGilvray,
Executive Secretary.

[FR Doc. 2013-02198 Filed 1-31-13; 8:45 am]

BILLING CODE P